DEPARTMENT OF ENERGY

Federal Energy Regulatory Commission

[Docket No. CP03-54-000]

Midwestern Gas Transmission Company; Notice of Application

March 4, 2003.

On February 24, 2003, Midwestern Gas Transmission Company (Midwestern), P.O. Box 542500, Omaha, Nebraska 68154-8500, filed in Docket No. CP03-54-000, an application pursuant to Section 7(b) of the Natural Gas Act (NGA), as amended, and part 157 of the regulations of the Federal Energy Regulatory Commission (Commission), for authorization to abandon a natural gas compressor unit and appurtenant facilities located at Compressor Station No. 2110, in Pike County, Indiana, all as more fully set forth in the application which is on file with the Commission and open to public inspection. This filing is available for review at the Commission or may be viewed on the Commission's Web site at http://www.ferc.gov using the “FERRIS” link. Enter the docket number excluding the last three digits in the docket number field to access the document. For assistance, please contact FERC Online Support at FERCOnlineSupport@ferc.gov or toll-free at (866) 208-3676, or for TTY, contact (202) 502-8659.

Midwestern states that it proposes to abandon in place a 1,100 horsepower Solar Saturn turbine and appurtenant facilities located at Compressor Station No. 2110, in Pike County, Indiana (Unit 2110-B). Compressor Station No. 2110 is located on Midwestern's mainline, which extends from Sumner County, Tennessee to Will County, Illinois.

Midwestern states that Unit 2110-B was originally installed in 1979, was certified in Docket No. CP73-244, and on December 21,2000, Midwestern filed a petition for exemption pursuant to Section 7(c)(1)(B) of the NGA. Midwestern states that the petition requested authority to inactivate Unit 2110-B on a temporary basis for a period of 18 to 24 months and that the petition was noticed on January 4, 2001. Midwestern states also that the petition explained that Unit 2110-B was expensive to operate and difficult to maintain due to its age (over 20 years). According to Midwestern, Unit 2110-B's capacity accounts for approximately 1.6% of the total horsepower on the Midwestern system and that abandonment of Unit 2110-B would reduce the capacity by approximately 4 MMcf/d, less than 1% of Midwestern's total throughput capacity. Midwestern states that the abandonment of this natural gas compressor unit will not affect current services on Midwestern's system. According to Midwestern, its current firm commitments across the affected pipeline segment totals 518 MMcf/d. With Unit 2110-B operating, Midwestern's mainline has a certified capacity of 678 MMcf/d but over the past two years the average throughput of the Midwestern system has been 296 MMcf/d. For the past three months, Midwestern states that the average throughput has been 318 MMcf/d. A Commission order granting the petition for exemption was issued on February 23, 2001.

Since the Commission's February 23, 2001 order, Midwestern states that it has determined that Unit 2110-B is not required to meet the firm service commitments of its existing customers and that current market conditions and volumetric requirements through Compressor Station No. 2110 do not show a need for Unit 2110-B.

Midwestern states that Unit 2110-B is one of five natural gas compressor units located at Compressor Station No. 2110 and that there are no changes required to the four remaining natural gas compressor units or station facilities to meet the current service demands at this location on Midwestern's system. According to Midwestern, Unit 2110-B will be deactivated by removal of valving and associated piping and at such time that the retired natural gas compressor unit and any related appurtenant facilities are dismantled and removed, there is not expected to be any adverse effect on the environment. These facilities are located above ground, on previously disturbed ground, entirely within the boundaries of the Compressor Station No. 2110 site and no ground disturbance is foreseen in the abandonment of this natural gas compressor unit.

Any questions concerning this application may be directed to Raymond D. Neppl, Vice President, Regulatory Affairs and Market Services, Midwestern Gas Transmission Company, P.O. Box 542500, Omaha, Nebraska 68154-8500, at (402) 492-7428.

There are two ways to become involved in the Commission's review of this project. First, any person wishing to obtain legal status by becoming a party to the proceedings for this project should file with the Federal Energy Regulatory Commission, 888 First Street, NE., Washington, DC 20426, a motion to intervene in accordance with the requirements of the Commission's Rules of Practice and Procedure (18 CFR 385.214 or 385.211) and the Regulations under the NGA (18 CFR 157.10) by the comment date below. A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Protests and interventions may be filed electronically via the Internet in lieu of paper; see 18 CFR 385.2001(a)(1)(iii) and the instructions on the Commission's Web site under the “e-Filing” link. The Commission strongly encourages electronic filings.

If the Commission decides to set the application for a formal hearing before an Administrative Law Judge, the Commission will issue another notice describing that process. At the end of the Commission's review process, a final Commission order approving or denying a certificate will be issued.

Comment Date: March 24, 2003.

Magalie R. Salas,
Secretary.

[FR Doc. 03-5657 Filed 3-10-03; 8:45 am]

BILLING CODE 6717-01-P